DEPARTMENT OF COMMERCE

National Oceanic and Atmospheric Administration

Science Advisory Board

AGENCY: Office of Oceanic and Atmospheric Research, NOAA, DOC.

ACTION: Notice of open meeting.

SUMMARY: The Science Advisory Board (SAB) was established by a Decision Memorandum dated September 25, 1997, and is the only Federal Advisory Committee with responsibility to advise the Under Secretary of Commerce for Oceans and Atmosphere on long- and short-range strategies for research, education, and application of science to resource management. SAB activities and advice provide necessary input to ensure that National Oceanic and Atmospheric Administration (NOAA) science programs are of the highest quality and provide optimal support to resource management.

Time and Date: The meeting will be held Tuesday, January 6, 2004, from 1 p.m. to 5 p.m. These times and the agenda topic described below may be subject to change. Refer to the web page listed below for the most up-to-date meeting agenda.

Place: The meeting will be held at the Marriott DC at Metro Center, 775 12th Street NW., Washington, DC.

Status: The meeting will be open to public participation with a 60-minute time period set aside for verbal statements or questions from the public. The SAB expects that public statements presented at its meetings will not be repetitive of previously submitted verbal or written statements. In general, each individual or group making a verbal statement will be limited to a total time of five (5) minutes. Written statements (at least 35 copies) should be received in the SAB Executive Director's Office by December 31, 2003, to provide sufficient time for SAB review. Written statements received by the SAB Executive Director after December 31, 2003, will be distributed to the SAB, but may not be reviewed prior to the meeting date. Approximately thirty (30) seats will be available for the public including five (5) seats reserved for the media. Seats will be available on a first-come, first-served basis.

Matters To Be Considered: The only topic on the meeting agenda is the report of the NOAA Research Review Team.

FOR FURTHER INFORMATION CONTACT: Dr. Michael Uhart, Executive Director, Science Advisory Board, NOAA, Rm. 11142, 1315 East-West Highway, Silver Spring, Maryland 20910. (Phone: 301-713-9121, Fax: 301-713-3515, E-mail: Michael.Uhart@noaa.gov); or visit the NOAA SAB Web site at http://www.sab.noaa.gov.

Dated: December 15, 2003.
Louisa Koch,
Deputy Assistant Administrator, OAR.

[FR Doc. 03-31254 Filed 12-18-03; 8:45 am]

BILLING CODE 3510-KD-P